DEPARTMENT OF THE INTERIOR

Fish and Wildlife Service

[FWS-R5-ES-2019-N168; FXES11130500000-201-FF05E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before January 27, 2020.

ADDRESSES: Use one of the following methods to request documents or submit comments. Requests and comments should specify the applicant name(s) and application number(s) (e.g., TE123456):

• Email: permitsR5ES@fws.gov.

• U.S. Mail: Abby Gelb, Ecological Services, U.S. Fish and Wildlife Service, 300 Westgate Center Dr., Hadley, MA 01035.

FOR FURTHER INFORMATION CONTACT: Abby Gelb, 413-253-8212 (phone), or permitsR5ES@fws.gov (email). Individuals who are hearing or speech impaired may call the Federal Relay Service at 1-800-877-8339 for TTY assistance.

SUPPLEMENTARY INFORMATION: We, the U.S. Fish and Wildlife Service, invite the public to comment on applications for permits under section 10(a)(1)(A) of the Endangered Species Act of 1973, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting in addition to hunting, shooting, harming, wounding, or killing.

A recovery permit issued by us under section 10(a)(1)(A) of the ESA authorizes the permittee to conduct activities with endangered or threatened species for scientific purposes that promote recovery or for enhancement of propagation or survival of the species. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

We invite local, State, and Federal agencies; Tribes; and the public to comment on the following applications.

Application No. | Applicant | Species | Location | Activity | Type of take | Permit action
TE60415D | Mass Audubon Wellfleet Bay Wildlife Sanctuary, South Wellfleet, MA | Kemp's ridley sea turtle (Lepidochelys kempii); Leatherback sea turtle (Dermochelys coriacea); Loggerhead sea turtle (Caretta caretta); Green sea turtle (Chelonia mydas) | Massachusetts | Stranding Response, Triage Rehabilitation, Transport, Necropsy | Salvage, Capture, Collect. | New.
TE60419D | MERR Institute, Lewes, DE | Kemp's ridley sea turtle (Lepidochelys kempii); Leatherback sea turtle (Dermochelys coriacea); Loggerhead sea turtle (Caretta caretta); Green sea turtle (Chelonia mydas) | Delaware | Stranding Response, Transport, Necropsy | Salvage, Capture, Collect | New.
TE60418D | Marine Mammal Stranding Center, Brigantine, NJ | Kemp's ridley sea turtle (Lepidochelys kempii); Leatherback sea turtle (Dermochelys coriacea); Loggerhead sea turtle (Caretta caretta); Green sea turtle (Chelonia mydas) | New Jersey | Stranding Response, Rehabilitation, Transport, Necropsy, Release | Salvage, Capture, Collect, Euthanize | New.
TE60434D | Sea Turtle Recovery, Inc., West Orange, NJ | Kemp's ridley sea turtle (Lepidochelys kempii); Leatherback sea turtle (Dermochelys coriacea); Loggerhead sea turtle (Caretta caretta); Green sea turtle (Chelonia mydas); Hawksbill sea turtle (Eretmochelys imbricata) | New Jersey | Rehabilitation, Transport, Necropsy, Release | Collect, Euthanize | New.
TE60921D | Pittsburgh Zoo & PPG Aquarium, Pittsburgh, PA | Kemp's ridley sea turtle (Lepidochelys kempii); Leatherback sea turtle (Dermochelys coriacea); Loggerhead sea turtle (Caretta caretta); Green sea turtle (Chelonia mydas); Hawksbill sea turtle (Eretmochelys imbricata) | Pennsylvania | Rehabilitation, Transport, Necropsy, Release | Collect, Euthanize | New.
TE60928D | National Marine Life Center, Buzzards Bay, MA | Kemp's ridley sea turtle (Lepidochelys kempii); Loggerhead sea turtle (Caretta caretta); Green sea turtle (Chelonia mydas) | Massachusetts | Rehabilitation, Transport, Necropsy, Release | Collect, Euthanize | New.
TE60406D | Atlantic Marine Conservation Society, Hampton Bays, NY | Kemp's ridley sea turtle (Lepidochelys kempii); Leatherback sea turtle (Dermochelys coriacea); Loggerhead sea turtle (Caretta caretta); Green sea turtle (Chelonia mydas) | New York | Stranding Response, Triage Rehabilitation, Transport, Satellite Tagging | Salvage, Capture, Wound, Collect | New.
TE60422D | Sea Research Foundation, Inc, dba Mystic Aquarium, Mystic, CT | Kemp's ridley sea turtle (Lepidochelys kempii); Leatherback sea turtle (Dermochelys coriacea); Loggerhead sea turtle (Caretta caretta); Green sea turtle (Chelonia mydas); Hawksbill sea turtle (Eretmochelys imbricata) | Connecticut | Stranding Response, Rehabilitation, Transport, Necropsy, Release | Salvage, Capture, Collect, Euthanize | New.
TE61005D | Mark J. Hepner, Buckhannon, WV | Rusty patched bumble bee (Bombus affinis) | West Virginia | Presence/absence survey, Research | Capture, Collect | New.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. Moreover, all submissions from organizations or businesses, and from individuals identifying themselves as representatives or officials of organizations or businesses, will be made available for public disclosure in their entirety.

Next Steps

If we decide to issue permits to any of the applicants listed in this notice, we will publish a notice in the Federal Register.

Authority

Section 10(c) of the Endangered Species Act of 1973, as amended (16 U.S.C. 1531 et seq.).

Martin Miller,
Chief, Division of Endangered Species, Ecological Services, Northeast Region.

[FR Doc. 2019-27727 Filed 12-23-19; 8:45 am]

BILLING CODE 4333-15-P